ENVIRONMENTAL PROTECTION AGENCY

40 CFR Part 49

[Docket #: A-2000-25; FRL-7254-3]

RIN 2012-AA01

Federal Implementation Plans Under the Clean Air Act for Indian Reservations in Idaho, Oregon and Washington

AGENCY: Environmental Protection Agency (EPA).

ACTION: Proposed rule; notice to re-open the public comment period and to hold a public hearing.

SUMMARY: Today, EPA is re-opening the public comment period on EPA's notice of proposed rulemaking “Federal Implementation Plans (FIPs) under the Clean Air Act (CAA) for Indian Reservations in Idaho, Oregon, and Washington,” published March 15, 2002 at 67 FR 11748. The original 90-day public comment period closed on June 13, 2002 but several commenters requested additional time to provide comments on the proposal and one commenter requested a public hearing. In response to these requests, EPA will re-open the comment period and provide an additional 60 days for interested and affected parties to submit comments. The new comment period will close on October 10, 2002. In addition, EPA will hold a public hearing to receive comments on the proposed rule on September 10, 2002, beginning at 7 p.m. Pacific Daylight Time (PDT) at the Liberty Theater in Toppenish, WA. All comments received by EPA during the public comment period will be considered in the final rulemaking.

DATES: Comments. Comments must be received or postmarked no later than October 10, 2002. Public Hearing. A public hearing will be held on September 10, 2002, beginning at 7 p.m. PDT at the Liberty Theater in Toppenish, WA. Additional requests for a public hearing must be received by EPA no later than August 23, 2002.

ADDRESSES: Comments. Written comments should be addressed to: David Bray, Office of Air Quality (OAQ-107), U.S. EPA Region 10, 1200 Sixth Avenue, Seattle, WA 98101-1128. Comments may also be submitted by e-mail to “bray.dave@epa.gov.” Please cite the administrative docket, #A-2000-25, upon which you are providing comment.

Public Hearing. The hearing on September 20, 2002 will take place at 7 p.m. PDT at the Liberty Theater, 211 S. Toppenish Avenue, Toppenish, WA.

Docket. Docket A-2000-25, containing all information supporting this action is available for public inspection and copying between 8:30 a.m. and 5:30 p.m. Eastern Daylight Time at EPA's Central Docket Section, Office of Air and Radiation, Room 1500 (M-6102), 401 M Street, SW., Washington, DC 20460. EPA's Central Docket Section is scheduled to move between August 12 and August 27, and material will not be available for viewing in Washington, DC, during this time. After August 27, 2002, the docket will be available for public inspection and copying between 8:30 a.m. and 5:30 p.m. Eastern Daylight Time at EPA's Air and Radiation Docket and Information Center, 1301 Constitution Avenue, NW., Room B108, Mail Code 6102T, Washington DC 20460. The docket is also available between 8:30 a.m. and 3:30 p.m. PDT at EPA Region 10, Office of Air Quality, 10th Floor, 1200 Sixth Avenue, Seattle, Washington 98101. A reasonable fee may be charged for copies. A copy of the March 15, 2002 proposed rule and all comments submitted as of June 13, 2002, are available at the Toppenish Library, 1 South Elm, Toppenish, WA 98948 during regular library hours.

Web site. Information on this proposed rulemaking is also available on EPA Region 10's Web site at: www.epa.gov/r10earth/tribalairrules.htm.

FOR FURTHER INFORMATION CONTACT: David Bray, Office of Air Quality (OAQ-107), U.S. EPA Region 10, 1200 Sixth Avenue, Seattle, WA 98101-1128, (206) 553-4253.

SUPPLEMENTARY INFORMATION: On March 15, 2002 (67 FR 11748), EPA solicited public comment on its proposal to promulgate Federal Implementation Plans (FIPs) under the Clean Air Act (CAA) for 39 Indian reservations in Idaho, Oregon, and Washington. The FIPs would include basic air quality regulations for the protection of communities on those Indian reservations. These rules would be implemented and enforced by EPA. EPA received requests to extend the public comment period to allow more time to review the proposal and to prepare comments. EPA also received a request on behalf of the residents of the Yakama Indian Reservation to hold a public hearing.

As a result of the requests to extend the public comment period, EPA is re-opening the comment period for 60 days. All comments received or postmarked by October 10, 2002 will be considered in the development of a final rule. A copy of all comments, including the requests to extend the public comment period, have been placed into the docket and may be reviewed during normal business hours at the locations listed above. Interested parties are invited to comment on all aspects of EPA's March 15, 2002 proposal. Comments should be addressed to David Bray at the address listed above. EPA also invites interested parties to provide comments at a public hearing to be held on September 10, 2002 at 7 p.m. PDT at the Liberty Theater in Toppenish, WA.

Dated: July 24, 2002.
L. John Iani,
Regional Administrator, Region 10.

[FR Doc. 02-19440 Filed 8-8-02; 8:45 am]

BILLING CODE 6560-50-P